DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Cooperatives in the Bering Sea and Aleutian Islands.

Form Number(s): None.

OMB Approval Number: 0648-0401.

Type of Request: Regular submission.

Burden Hours: 320.

Number of Respondents: 11.

Average Hours Per Response: Cooperative preliminary report, 20 hours; cooperative final report, 8 hours; inshore cooperative catcher vessel pollock catch report, 5 minutes; and appointment of agent for service of process, 5 minutes.

Needs and Uses: The cooperative management structure, originally implemented by the American Fisheries Act (AFA), has shifted more of the monitoring and enforcement burden to the cooperatives and their members; and has allowed NMFS to manage the Bering Sea and Aleutian Islands pollock fishery more precisely. With the flexibility provided by cooperatives, vessels are able to individually (and in aggregate) come very close to harvesting exactly the amount of pollock they were allocated. The allocations of pollock and other species have allowed the AFA fleet the ability to spread their effort in time and space to accommodate Steller Sea Lion conservation measures. This collection describes some of the recordkeeping and reporting requirements under the AFA Program.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 1, 2006.
Gwellnar Banks,
Management Analyst, Office of the Chief Information Officer.

[FR Doc. E6-8753 Filed 6-5-06; 8:45 am]

BILLING CODE 3510-22-P